DEPARTMENT OF AGRICULTURE

Forest Service

Lassen National Forest; California; Lakes Forest Recovery Project

AGENCY: Forest Service, USDA

ACTION: Cancellation of Notice of Intent.

SUMMARY: This notice cancels the Notice of Intent to analyze the Lakes Forest Recovery Project on the Lassen National Forest, published in the Federal Register on December 13, 2000 (Volume 65, Number 240, 77848-77849). The Lakes Forest Recovery Project was cancelled because the area in which the project was to be implemented has been incorporated into another project known as the Treatment Unit-1 Project.

ADDRESSES: Almanor District Ranger, Lassen National Forest, P.O. Box 767, Chester, CA, 96020.

FOR FURTHER INFORMATION CONTACT: Dominic Cesmat, Interdisciplinary Team Leader, telephone (530) 258-2141.

SUPPLEMENTARY INFORMATION: A Notice of Intent to prepare an environmental impact statement for the Lakes Forest Recovery Project was published in the Federal Register on December 13, 2000 (Volume 65, Number 240, 77848-77849). The Lakes Forest Recovery Project was designed to reduce wildland fire hazard, promote forest health and provide economic benefits as described within the Herger-Feinstein Quincy Library Group Forest Recovery Act of October 21, 1998. From the date of that filing, the Lassen National Forest's Land and Resource Management Plan has been amended by the signing of the Record of Decision (January 12, 2001) by the Regional Forester for the Sierra Nevada Forest Plan Amendment (SNFPA) Final Environmental Impact Statement. The Record of Decision made changes to the way Herger-Feinstein Quincy Library Group projects are implemented.

Amongst changes to the Lassen National Forest's Land and Resource Management Plan, the Record of Decision for the SNFPA called for an administrative study to examine the relationship between management-caused changes in vegetation and their effects on California spotted owl habitat and spotted owl population dynamics. One of the proposed administrative study areas, known as Treatment Unit-1, includes a large portion of the Lakes Forest Recovery Project area. Based on the changes to the Land and Resource Management Plan, the planning effort on the Lakes Forest Recovery Project was stopped, and a new planning effort has begun on the Treatment Unit-1 Project.

Dated: December 14, 2001.
Edward C. Cole,
Forest Supervisor.

[FR Doc. 01-31731 Filed 12-26-01; 8:45 am]

BILLING CODE 3410-11-M